FEDERAL RESERVE SYSTEM

Agency Information Collection Activities: Announcement of Board Approval Under Delegated Authority and Submission to OMB

In notice document 00-19313, beginning on page 46917, in the issue of Tuesday, August 1, 2000, the Federal Reserve announced final approval of the Monthly Survey of Industrial Electricity Use (FR 2009a,b,c; OMB No. 7100-0057). The notice announced the proposal to discontinue the FR 2009a after a two-year transition period ending August 2002. The Federal Reserve has postponed the discontinuance of the FR 2009a for another year to allow respondents more time to convert to the new classification codes.

The industrial output index is currently being revised to reflect the new North American Industry Classification System (NAICS). The Federal Reserve's G.17 statistical release, “Industrial Production and Capacity Utilization”, will be published under NAICS codes beginning in November 2002, replacing the current Standard Industrial Classification (SIC) codes. To facilitate the use of this new index, the Federal Reserve has asked utilities to reclassify their customers using the NAICS codes. To that end, a new version of the Monthly Report of Industrial Electricity Use, the FR 2009c, was created in August 2000 to be used by respondents reporting in NAICS codes. Respondents could continue reporting in SIC codes on the FR 2009a until they had converted over to NAICS codes. The FR 2009a was then to be discontinued at the end of a two-year transition period.

This time frame has proven to be unrealistic for some utilities in the FR 2009 panel and, as a result, the Federal Reserve will continue to use the FR 2009a form. The Federal Reserve prefers NAICS coded data and encourages utilities to make the change. Federal Reserve staff will continue to help utilities make the conversion from SIC codes to NAICS codes.

FOR FURTHER INFORMATION CONTACT: Federal Reserve Board Clearance Officer--Mary M. West--Division of Research and Statistics, M/S 41, Board of Governors of the Federal Reserve System, Washington, DC 20551 (202-452-3829).

Board of Governors of the Federal Reserve System, July 11,2002.
Jennifer J. Johnson,
Secretary of the Board.

[FR Doc. 02-17852 Filed 7-15-02; 8:45 am]

BILLING CODE 6210-01-S